SURFACE TRANSPORTATION BOARD

[Docket No. FD 36778]

East Tennessee Railway, L.P.—Lease and Operation Exemption—CSX Transportation, Inc.

East Tennessee Railway, L.P. (ETRY), a Class III rail carrier, has filed a verified notice of exemption under 49 CFR 1150.41 to amend its lease with CSX Transportation, Inc. (CSXT) for a 4.05-mile rail line that extends from milepost ZJ 0.05 to milepost ZJ 4.10 near Johnson City, Tenn., and two short spurs, known as Johnson City Lead and Carnegie Spur, in Washington County, Tenn. (the Line). ETRY states that it first received authority to lease and operate the Line in 2003,¹ and it is currently the operator of the Line. According to ETRY, the amended lease will extend the term of the current lease an additional six years, through September 30, 2030, as well as make other minor changes.

¹ See East Tenn. Ry.—Lease & Operation Exemption—CSX Transp., Inc., FD 34404 (STB served Sept. 26, 2003).

ETRY certifies that its projected annual revenues as a result of the proposed transaction will not result in ETRY's becoming a Class I or Class II rail carrier and will not exceed $5 million. ETRY also certifies that the amended lease does not include an interchange commitment.

The transaction may be consummated on or after November 24, 2024, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions for stay must be filed by November 15, 2024 (at least seven days before the exemption becomes effective).

All pleadings, referring to Docket No. FD 36778, must be filed with the Surface Transportation Board either via e-filing or in writing addressed to 395 E Street SW, Washington, DC 20423-0001. In addition, a copy of each pleading must be served on ETRY's representative, Justin J. Marks, Clark Hill PLC, 1001 Pennsylvania Ave. NW, Suite 1300 South, Washington, DC 20004.

According to ETRY, this action is categorically excluded from environmental review under 49 CFR 1105.6(c) and from historic preservation reporting requirements under 49 CFR 1105.8(b).

Board decisions and notices are available at www.stb.gov.

Decided: November 5, 2024.
By the Board, Scott M. Zimmerman, Acting Director, Office of Proceedings.
Eden Besera,
Clearance Clerk.

[FR Doc. 2024-26052 Filed 11-7-24; 8:45 am]

BILLING CODE 4915-01-P